DEPARTMENT OF EDUCATION

34 CFR Chapter II

[Docket ID ED-2021-OESE-0122]

Proposed Priorities, Requirements, and Definition—Project Prevent Grant Program

AGENCY: Office of Elementary and Secondary Education, Department of Education.

ACTION: Proposed priorities, requirements, and definition.

SUMMARY: The Department of Education (Department) proposes priorities, requirements, and a definition under the Project Prevent grant program, Assistance Listing Number (ALN) 84.184M. We may use one or more of these priorities, requirements, and definition for competitions in fiscal year (FY) 2022 and later years. We propose priorities and requirements designed to direct funds toward local educational agencies (LEAs) impacted by community violence and to expand the capacity of LEAs to implement community- and school-based strategies to help prevent community violence and mitigate the impacts of exposure to community violence. The Department also proposes to define “community violence” for purposes of the Project Prevent grant program.

DATES: We must receive your comments on or before February 28, 2022.

ADDRESSES: Submit your comments through the Federal eRulemaking Portal or via postal mail, commercial delivery, or hand delivery. We will not accept comments submitted by fax or by email or those submitted after the comment period. To ensure we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ.”

• Postal Mail, Commercial Delivery, or Hand Delivery: If you mail or deliver your comments about the proposed priorities, requirements, and definition, address them to Nicole White, U.S. Department of Education, 400 Maryland Avenue SW, Room 3E326, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Nicole White, U.S. Department of Education, 400 Maryland Avenue SW, Room 3E326, Washington, DC 20202. Telephone: (202) 453-6729. Email: Project.Prevent@ed.gov.

If you use a telecommunications device for the deaf (TDD) or a text telephone (TTY), call the Federal Relay Service (FRS), toll-free, at 1-800-877-8339.

SUPPLEMENTARY INFORMATION:

Invitation to Comment: We invite you to submit comments regarding the proposed priorities, requirements, and definition. To ensure that your comments have maximum effect in developing the notice of final priorities, requirements, and definition, we urge you to clearly identify the specific section of the proposed priorities, requirements, or definition that each comment addresses.

We invite you to assist us in complying with the specific requirements of Executive Orders 12866 and 13563 and their overall requirement of reducing regulatory burden that might result from the proposed priorities, requirements, and definition. Please let us know of any further ways we could reduce potential costs or increase potential benefits while preserving the effective and efficient administration of the program.

During and after the comment period, you may inspect all public comments about the proposed priorities, requirements, and definition by accessing Regulations.gov. You may also inspect the comments in person. Please contact the person listed under FOR FURTHER INFORMATION CONTACT to make arrangements to inspect the comments in person.

Assistance to Individuals with Disabilities in Reviewing the Rulemaking Record: On request we will provide an appropriate accommodation or auxiliary aid to an individual with a disability who needs assistance to review the comments or other documents in the public rulemaking record for the proposed priorities, requirements, and definition. If you want to schedule an appointment for this type of accommodation or auxiliary aid, please contact the person listed under FOR FURTHER INFORMATION CONTACT.

Purpose of Program: The Project Prevent grant program provides grants to LEAs to increase their capacity to implement community- and school-based strategies to help prevent community violence and mitigate the impacts of exposure to community violence. Project Prevent grant funds allow LEAs to increase their capacity to identify, assess, and serve students exposed to community violence, helping LEAs to (1) offer affected students mental health services; (2) support conflict management programs; and (3) implement other community- and school-based strategies to help prevent community violence and to mitigate the impacts of exposure to community violence.

Program Authority: 20 U.S.C. 7281.

Background: Children and youth's exposure to community violence, whether as victims, justice-involved youth, or witnesses, is often associated with long-term physical, psychological, and emotional harms. Research has demonstrated that community violence is a risk factor for experiencing an adverse childhood experience (ACE) such as abuse, neglect, witnessing violence, or having a family member who is incarcerated, and has an impact on future violence and victimization in a community.¹ ACEs can lead children and youth to experience depression, anxiety, and post-traumatic stress disorder; have difficulty in, or disconnect from, school and the workforce; and engage in delinquency or violent acts, potentially perpetuating the conditions that contribute to a cycle of community violence.

¹ Centers for Disease Control and Prevention. (2020, April 3). Adverse Childhood Experiences (ACEs). Retrieved from: www.cdc.gov/violenceprevention/aces/riskprotectivefactors.html.

Several Federal agencies have worked to address the issues surrounding children and youth's exposure to community violence. Since 1980, the Centers for Disease Control and Prevention has been studying patterns of violence and the effects of violence on communities and individuals, as well as advancing strategies to help prevent violence and mitigate the impacts of exposure to violence.² Furthermore, in 2010, Attorney General Eric Holder launched the Defending Childhood initiative to better understand and address the problem of children's exposure to community violence. As part of this initiative, in December 2012 the Attorney General's Task Force on Children Exposed to Violence released a report and national action plan that has helped inform the development of this program. The report recognized the duty of local coalitions of professionals from multiple disciplines across the full range of service systems (health care, schools, family services, law enforcement, and child advocacy centers), as well as families and other community members, to assess local challenges and resources, and develop strategies to reduce violence and the number of children exposed to violence.³

² National Center for Injury Prevention and Control, Division of Violence Prevention. Retrieved from: www.cdc.gov/violenceprevention.

³ U.S. Department of Justice. (2012). Report of the Attorney General's National Task Force on Children Exposed to Violence. Retrieved from: https://www.justice.gov/archives/defendingchildhood/task-force-children-exposed-violence.

In addition, in 2012 the U.S. Department of Health and Human Services launched a national effort to “reduce the pervasive, harmful, and costly health impact of community violence and trauma by integrating trauma-informed approaches throughout health, behavioral health, and related systems and addressing the behavioral health needs of people involved in or at risk of involvement in the criminal and juvenile justice systems.” This includes the outlining of “Principles and Guidance for a Trauma-Informed Approach.” ⁴

⁴ Substance Abuse & Mental Health Services Administration. (2012). SAMHSA's Working Definition of Trauma and Principles and Guidance for a Trauma-Informed Approach. Retrieved from: SAMHSA's Concept of Trauma and Guidance for a Trauma-Informed Approach.

Community violence, which is defined in this document, is a significant public health, public safety, and community infrastructure concern nationwide and is a leading cause of death, injury, and intergenerational trauma for people in the United States. Community violence imposes enormous human, social, and economic costs, including disruption to employment and hindering of a community's social and economic development.⁵ While the vast majority of young people are able to persevere, those who have been victims of violence are at substantially higher risk of being violently revictimized or killed. Additionally, both direct and indirect violence exposure have been associated with poor economic outcomes and poor health outcomes, including chronic illness, anxiety, depression, and substance use.⁶

⁵ U.S. Department of Health and Human Services. Crime and Violence—Healthy People 2030. Retrieved from: https://health.gov/healthypeople/objectives-and-data/social-determinants-health/literature-summaries/crime-and-violence.

⁶ Break the Cycle of Violence Act, S. 2275, 117th Cong. (2021). Retrieved from: https://www.govinfo.gov/content/pkg/BILLS-117s2275is/html/BILLS-117s2275is.htm.

Programs facilitated in schools by counselors, mental health providers, and community leaders for students who have been exposed to or are at high risk of involvement in community violence have been shown to help students develop the social and emotional skills needed to navigate difficult circumstances outside of the classroom so that they are able to turn away from violence and reengage in school.⁷ When properly implemented and consistently funded, coordinated, community-based strategies that use trauma-responsive care and interrupt cycles of community violence may produce lifesaving and cost-saving results in a short period of time. These strategies identify those at the highest risk and highest need, coordinate individualized wraparound resources, provide pathways to healing and stability, and monitor and support long-term success.

⁷ Chicago Lab Crime Report. Retrieved from: https://www.youth-guidance.org/bam/.

The Biden-Harris Administration is taking a number of steps to prioritize investment in community violence interventions. Community violence interventions are proven strategies for reducing gun violence and other violent crime in urban communities through approaches other than incarceration.⁸ These approaches include outreach, conflict mediation, violence interruption, and trauma-informed school-based mental health services to effectively reduce community violence. Efforts to ensure public safety and reduce community violence may also be carried out collaboratively and in partnership with law enforcement, where appropriate, to build safer, thriving communities.

⁸ The White House. FACT SHEET: Biden-Harris Administration Announces Initial Actions to Address the Gun Violence Public Health Epidemic. Retrieved from: https://www.whitehouse.gov/briefing-room/statements-releases/2021/04/07/fact-sheet-biden-harris-administration-announces-initial-actions-to-address-the-gun-violence-public-health-epidemic/.

Proposed Priorities

The Department proposes the following three priorities for this program. We may apply one or more of these priorities in any year in which this program is in effect.

Proposed Priority 1—Addressing the Impacts of Community Violence.

Background: In Proposed Priority 1, the Department recognizes the tremendous impact community violence has on the well-being of students. Children and youth exposed to violence are at risk for poor long-term behavioral and mental health outcomes regardless of whether they are victims, justice-involved youth, direct witnesses, or hear about the crime. For example, children and youth exposed to violence may experience behavioral health challenges, depression, anxiety, and post-traumatic stress disorder, which can negatively affect educational outcomes. Children and youth exposed to violence may also show increased signs of aggression starting in upper-elementary school.⁹

⁹ U.S. Department of Health and Human Services, Crime and Violence—Healthy People 2030. Retrieved from: https://health.gov/healthypeople/objectives-and-data/social-determinants-health/literature-summaries/crime-and-violence.

Schools are often the center of the community for students and their families, providing students with the resources and referrals they need to meet their full potential. Consequently, the needs of children and youth often are best met through cross-agency collaboration and partnerships between schools and organizations in the community. Consistent with the Secretary's vision for community engagement to advance systemic change, the Department would use this priority to emphasize the importance and efficacy of a coordinated effort between schools and communities to lessen the short- and long-term effects that community violence has on students.

Proposed Priority: Projects that implement community- and school-based strategies to help prevent community violence and mitigate the impacts of children and youth's exposure to community violence in collaboration with local community-based organizations (e.g., local civic or community service organizations, local faith-based organizations, or local foundations or non-profit organizations) and include community and family engagement in the implementation of the strategies.

Proposed Priority 2—Established Partnership with a Local Community-Based Organization.

Background: As described in the background to Proposed Priority 1, the needs of children and youth often are often best met through cross-agency collaboration and partnerships between schools and organizations in the community. In forging this collaboration, the Department places specific emphasis on the importance of structured and defined partnerships to efficiently and effectively implement community- and school-based intervention strategies to help prevent community violence and mitigate the impacts of exposures to community violence. In particular, memorandums of agreement (MOA) and memorandums of understanding (MOUs) signed by the authorized representative of a local community-based organization elevate the level of partnership between an LEA and a partner organization by clearly defining the roles, responsibilities, and resources that each entity will bring to the partnership.

We may use this priority as a complement to Proposed Priority 1 or other priorities for this program, or as a stand-alone priority.

Proposed Priority: An application that includes at least one memorandum of agreement (MOA) or memorandum of understanding (MOU) signed by the authorized representative of a local community-based organization that agrees to partner with the applicant on the proposed project and provide resources or administer services that are likely to substantially contribute to positive outcomes for the proposed project. The MOA or MOU must clearly delineate the roles and responsibilities of each entity.

Proposed Priority 3—Supporting Children and Youth from Low-Income Backgrounds.

Background: The neighborhoods where children and youth live and go to school can have a major impact on their health and well-being. Many children and youth in the United States live in neighborhoods with high rates of, and prevalence of risk factors associated with, violence-related injuries and deaths, crime, poverty, and other health and safety risks. Students from low-income backgrounds are more likely to live in places with these risks.¹⁰ In a study that examined the characteristics of school shootings, the Government Accountability Office found that the number of school shootings generally increased relative to school poverty level.¹¹ Proposed Priority 3 is intended to allow the Department to support activities in LEAs that experience and are impacted by community violence at a disproportionate rate.

¹⁰ U.S. Department of Health and Human Services, Neighborhood and Built Environment—Healthy People 2030. Retrieved from: https://health.gov/healthypeople/objectives-and-data/browse-objectives/neighborhood-and-built-environment.

¹¹ U.S. Government Accountability Office, Characteristics of School Shootings. Retrieved from: https://www.gao.gov/assets/gao-20-455.pdf.

Proposed Priority: In its application, an applicant must demonstrate, based on Small Area Income and Poverty Estimates (SAIPE) data from the U.S. Census Bureau or, for an LEA for which SAIPE data are not available, the same State-derived equivalent of SAIPE data that the State uses to make allocations under part A of title I of the Elementary and Secondary Education Act of 1965, as amended (ESEA), one or more of the following:

(a) At least 25 percent of the students enrolled in the LEA to be served by the proposed project are from families with an income below the poverty line.

(b) At least 30 percent of the students enrolled in the LEA to be served by the proposed project are from families with an income below the poverty line.

(c) At least 35 percent of the students enrolled in the LEA to be served by the proposed project are from families with an income below the poverty line.

(d) At least 40 percent of the students enrolled in the LEA to be served by the proposed project are from families with an income below the poverty line.

(e) At least 45 percent of the students enrolled in the LEA to be served by the proposed project are from families with an income below the poverty line.

Types of Priorities: When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Proposed Requirements

The Department proposes the following program requirement and application requirements for this program. We may apply one or more of these requirements in any year in which the program is in effect.

Proposed Program Requirement:

Eligible Applicants: Eligible applicants for this program are local educational agencies (LEAs), as defined in 20 U.S.C. 7801(30).

Proposed Application Requirements:

(a) Severity and magnitude of the problem; identification of schools to be served by the proposed project. Applicants must—

(1) Identify the schools proposed to be served by project activities;

(2) Describe the community violence that affects students in those schools, including collaborating and coordinating with organizations and law enforcement (where appropriate), and with other organizations to utilize data and information such as incidents of community violence, gun crime and other violent crime, rates of child abuse and neglect, and other school and community crime and safety data, including on a per capita basis (such as homicides per 100,000 persons); prevalence of risk factors associated with violence-related injuries and deaths; findings from student mental health screenings or assessments, school climate surveys, and student engagement surveys; demographic data provided by U.S. Census surveys; and other relevant data and information; and

(3) Provide a comparison of the school and community data cited to similar data at the State or local level, if available.

(b) Collaboration and coordination with community-based organizations. Applicants must—

(1) Describe how they intend to work collaboratively with community-based organizations to achieve project goals and objectives;

(2) Provide evidence of collaboration and coordination through letters of support, memoranda of agreement, or memoranda of understanding from at least one community-based organization; and

(3) Describe how they will use grant program funds to supplement, rather than supplant, existing or new efforts to reduce community violence and mitigate the direct and indirect effects of community violence on students.

(c) Project activities. Applicants must propose to conduct three or more of the following:

(1) Appropriately tailored professional development opportunities for LEA and school mental health staff (e.g., counselors, psychologists, and social workers), other specialized instructional support personnel, and other school staff, as appropriate, on how to screen for and respond to violence-related trauma and implement appropriate school-based interventions to help prevent community violence and mitigate the impacts of children and youth's exposure to community violence.

(2) Activities designed to improve the range, availability, and quality of school-based mental health services by hiring school and clinical psychologists, school counselors, or school social workers with expertise or training in violence prevention, trauma-informed care, and healing-centered strategies, and qualified to respond to the mental and behavioral health needs of students who have experienced trauma as a result of exposure to community violence.

(3) Training for school staff (e.g., teachers, administrators, specialized instructional support personnel, and support staff), community partners, youth, and families on the effects of exposure to community violence, the importance of screening students, and how to screen and provide interventions to students exposed to community violence.

(4) Developing or improving processes to better target services to students who are exposed to community violence and to assess such students who may be experiencing mental, social, emotional, or behavioral challenges.

(5) Enhancing linkages between LEA mental health services and community mental health systems to help ensure affected students receive referrals to treatment as appropriate.

(6) Undertaking activities in collaboration and coordination with law enforcement to address community violence affecting students, to support victims' rights, and to promote public safety.

(d) Evidence-based, culturally competent, and developmentally appropriate programs and practices. Applicants must—

(1) Describe the continuum of evidence-based, culturally competent, and developmentally appropriate (as defined in 34 CFR 77.1(c)) programs and practices that will be implemented at the school and community level and how these programs and practices will be organized to provide differentiated support based on student need, to help break the cycle of community violence. These programs and practices must include all of the following:

(i) Interventions and activities that are available to all students in a school with the goal of preventing negative or violent behavior (such as harassment, bullying, fighting, gang participation, sexual assault, and substance abuse) and enhancing student knowledge and interpersonal and emotional skills regarding positive behavior (such as communication and problem-solving, empathy, and conflict management, de-escalation, and mediation).

(ii) Interventions and activities related to positive coping techniques, anger management, conflict management, de-escalation, and mediation, promotion of positive behavior, and development of protective factors.

(iii) Interventions and services, such as mentorship programming, that target individual students who are at a higher risk for committing or being a victim of violence.

(2) Describe the research and evidence supporting the proposed programs and practices and the expected effects on the target population.

(e) Framework for planning, implementation, and sustainability. Applicants must—

(1) Describe how the proposed project is integrated and aligned with the mission and vision of the LEA, including a description of the relationship of the project to the LEA's existing school safety or related plan;

(2) Describe the anticipated challenges to success of the project and how they will be addressed, such as sustaining project implementation beyond the availability of grant funds and mitigating turnover at the LEA leadership, school leadership, and staff levels; and

(3) Include a timeline of activities for—

(i) Planning that includes: Conducting a needs assessment that is comprehensive and examines areas for improvement, both within the school and the community, related to learning conditions that create a safe and healthy environment for students; creating a logic model (as defined in 34 CFR 77.1); completing resource mapping; selecting evidence-based, culturally competent, and developmentally appropriate programs; developing evaluation plans; and engaging community and school partners, families, and other stakeholders;

(ii) Implementation that includes: Training on and execution of evidence-based, culturally competent, and developmentally appropriate programs; continuing engagement with stakeholders; communicating and collaborating strategically with community partners; and evaluating program implementation; and

(iii) Sustainability that includes: Further developing and expanding on the project's successes beyond the end of the grant, at the school and community levels, in alignment with other related efforts.

(f) Planning period. Projects funded under this program may use up to 12 months during the first year of the project period for program planning. Applicants that propose a planning period must provide sufficient justification for why this program planning time is necessary, provide the intended outcomes of program planning in Year 1, and include a description of the proposed strategies and activities to be supported.

Proposed Definition

The Department proposes to establish a definition of “community violence” for use in this program. We may apply it in any year in which this program is in effect.

Community violence means firearm injuries, assaults, homicides, and other acts of interpersonal violence committed outside the context of a familial or romantic relationship.

Final Priorities, Requirements, and Definition: We will announce the final priorities, requirements, and definition in a document published in the Federal Register. We will determine the final priorities, requirements, and definition after considering responses to the proposed priorities, requirements, and definition and other information available to the Department. This document does not preclude us from proposing additional priorities, requirements, definitions, or selection criteria, subject to meeting applicable rulemaking requirements.

Note: This document does not solicit applications. In any year in which we choose to use the priorities, requirements, and definition, we invite applications through a notice inviting applications in the Federal Register.

Executive Orders 12866 and 13563

Regulatory Impact Analysis

Under Executive Order 12866, it must be determined whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only on a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the proposed priorities, requirements, and definition only on a reasoned determination that their benefits would justify their costs. In choosing among alternative regulatory approaches, we selected those approaches that would maximize net benefits. Based on an analysis of anticipated costs and benefits, we believe that the proposed priorities, requirements, and definition are consistent with the principles in Executive Order 13563.

We also have determined that this regulatory action does not unduly interfere with State, local, and Tribal governments in the exercise of their governmental functions.

In accordance with the Executive orders, the Department has assessed the potential costs and benefits, both quantitative and qualitative, of this regulatory action. The potential costs are those resulting from statutory requirements and those we have determined as necessary for administering the Department's programs and activities.

Potential Costs and Benefits

The Department believes that this proposed regulatory action would not impose significant costs on eligible entities, whose participation in our programs is voluntary, and costs can generally be covered with grant funds. As a result, the proposed priorities, requirements, and definition would not impose any particular burden except when an entity voluntarily elects to apply for a grant. The proposed priorities, requirements, and definition would help ensure that the Project Prevent grants program selects high-quality applicants to implement activities that meet the goals of the program. We believe these benefits would outweigh any associated costs.

Clarity of the Regulations

Executive Order 12866 and the Presidential memorandum “Plain Language in Government Writing” require each agency to write regulations that are easy to understand.

The Secretary invites comments on how to make the proposed priorities, requirements, and definition easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections?

• Could the description of the proposed regulations in the SUPPLEMENTARY INFORMATION section of this preamble be more helpful in making the proposed regulations easier to understand? If so, how?

• What else could we do to make the proposed regulations easier to understand?

To send any comments that concern how the Department could make the proposed priorities, requirements, and definition easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Secretary certifies that this proposed regulatory action would not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

The small entities that this proposed regulatory action would affect are LEAs. Of the impacts we estimate accruing to grantees or eligible entities, all are voluntary. Therefore, we do not believe that the proposed priorities, requirements, and definition would significantly impact small entities beyond the potential for increasing the likelihood of their applying for, and receiving, competitive grants from the Department.

Paperwork Reduction Act

As part of its continuing effort to reduce paperwork and respondent burden, the Department provides the general public and Federal agencies with an opportunity to comment on proposed and continuing collections of information in accordance with the Paperwork Reduction Act of 1995 (PRA) (44 U.S.C. 3501 et seq.). This helps ensure that the public understands the Department's collection instructions, respondents provide the requested data in the desired format, reporting burden (time and financial resources) is minimized, collection instruments are clearly understood, and the Department can properly assess the impact of collection requirements on respondents.

The proposed requirements contain information collection requirements. Under the PRA the Department has submitted these requirements to OMB for its review.

A Federal agency may not conduct or sponsor a collection of information unless OMB approves the collection under the PRA and the corresponding information collection instrument displays a currently valid OMB control number. Notwithstanding any other provision of the law, no person is required to comply with, or is subject to penalty for failure to comply with, a collection of information if the collection instrument does not display a currently valid OMB control number.

In the notice of final priorities, requirements, and definition we will display the control number assigned by OMB to any information collection proposed in this document and adopted in the notice of final priorities, requirements, and definition.

For the years that the Department holds a Project Prevent grant competition, we estimate 150 LEAs will apply and submit an application. We estimate that it will take each LEA 40 hours to complete and submit the application, including time for reviewing instructions, searching existing data sources, gathering and maintaining the data needed, and completing and reviewing the collection of information. The total burden hour estimate for this collection is 6,000 hours. At $97.28 per hour (using mean wages for Education and Childcare Administrators ¹² and assuming the total cost of labor, including benefits and overhead, is equal to 200 percent of the mean wage rate), the total estimated cost for 150 LEAs to complete the Project Prevent application is approximately $583,680.

¹² See http://www.bls.gov/oes/current/oes_nat.htm.

Consistent with 5 CFR 1320.8(d), the Department is soliciting comments on the information collection. We must receive your comments on the collection activities contained in these proposed priorities, requirements, and definition on or before February 28, 2022. Comments related to the information collection activities must be submitted electronically through the Federal eRulemaking Portal at www.regulations.gov by selecting the Docket ID number ED-2021-OESE-0122 or via postal mail, commercial delivery, or hand delivery by referencing the Docket ID number and the title of the information collection request at the top of your comment. Comments submitted by postal mail or delivery should be addressed to the PRA Coordinator of the Strategic Collections and Clearance Governance and Strategy Division, U.S. Department of Education, 400 Maryland Ave. SW, LBJ, Room 6W208D, Washington, DC 20202-8240.

Note: The Office of Information and Regulatory Affairs and the Department review all comments related to the information collection activities posted at www.regulations.gov.

Collection of Information
Information collection activity | Estimated number of responses | Hours per response | Total estimated burden hours | Estimated cost at an hourly rate of $97.28
Project Prevent Application | 150 | 40 | 6,000 | $583,680

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of the Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs. Delegated the authority to perform the functions and duties of the Assistant Secretary, Office of Elementary and Secondary Education.

[FR Doc. 2022-01611 Filed 1-27-22; 8:45 am]

BILLING CODE 4000-01-P